INTERNATIONAL TRADE COMMISSION

[Investigation No. 337-TA-814]

Certain Automotive GPS Navigation Systems, Components Thereof, and Products Containing Same; Determination Not To Review Initial Determination Amending Complaint; Notice of Investigation

AGENCY: U.S. International Trade Commission.

ACTION: Notice.

SUMMARY: Notice is hereby given that the U.S. International Trade Commission has determined not to review the presiding administrative law judge's (“ALJ”) initial determination (“ID”) (Order No. 5) granting Complainant's motion for leave to amend the complaint and notice of investigation.

FOR FURTHER INFORMATION CONTACT: Panyin A. Hughes, Esq., Office of the General Counsel, U.S. International Trade Commission, 500 E Street SW., Washington, DC 20436, telephone (202) 205-3042. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on November 23, 2011, based on a complaint filed by Beacon Navigation GmbH of Zug, Switzerland (“Beacon”). 76 FR 72443 (Nov. 23, 2011). The complaint alleged violations of section 337 of the Tariff Act of 1930, as amended 19 U.S.C. 1337, in the importation into the United States, the sale for importation, and the sale within the United States after importation of certain automotive GPS navigation systems, components thereof, and products containing the same by reason of infringement of certain claims of United States Patent Nos. 6,374,180; 6,178,380; 6,029,111; and 5,862,511. The notice of investigation named several respondents including General Motors Company of Detroit, Michigan (“GM”).

On December 2, 2011, Beacon filed a motion for leave to amend the complaint and notice of investigation to terminate GM from the investigation and replace it with General Motors LLC of Detroit, Michigan (“GM LLC”).

On February 9, 2012, the ALJ issued the subject ID, granting the motion. The ALJ found that, pursuant to Commission Rule 210.14(b) (19 CFR 210.14(b)), good cause exists to amend the complaint and notice of investigation. None of the parties petitioned for review of the ID.

The Commission has determined not to review the ID. Accordingly, GM is terminated from the investigation and GM LLC is added as a respondent to the investigation.

The authority for the Commission's determination is contained in section 337 of the Tariff Act of 1930, as amended (19 U.S.C. 1337), and in section 210.42 of the Commission's Rules of Practice and Procedure (19 CFR 210.42).

By order of the Commission.
Issued: February 29, 2012.
James R. Holbein,
Secretary to the Commission.

[FR Doc. 2012-5313 Filed 3-5-12; 8:45 am]

BILLING CODE 7020-02-P